DEPARTMENT OF THE TREASURY

Office of the Comptroller of the Currency

[Docket ID OCC-2018-0036]

Mutual Savings Association Advisory Committee

AGENCY: Department of the Treasury, Office of the Comptroller of the Currency (OCC).

ACTION: Notice.

SUMMARY: The OCC has determined that the renewal of the charter of the OCC Mutual Savings Association Advisory Committee (MSAAC) is necessary and in the public interest. The OCC hereby gives notice of the renewal of the charter.

DATES: The charter of the OCC MSAAC has been renewed for a two-year period that began on September 19, 2018.

FOR FURTHER INFORMATION CONTACT: Michael R. Brickman, Designated Federal Officer, 202-649-5420, Office of the Comptroller of the Currency, 400 7th Street SW, Washington, DC 20219.

SUPPLEMENTARY INFORMATION: Notice of the renewal of the MSAAC charter is hereby given, with the approval of the Secretary of the Treasury, pursuant to section 9(a)(2) of the Federal Advisory Committee Act, 5 U.S.C. App. 2. The Comptroller of the Currency has determined that the renewal of the MSAAC charter is necessary and in the public interest in order to provide advice and information concerning the condition of mutual savings associations, the regulatory changes or other steps the OCC may be able to take to ensure the health and viability of mutual savings associations, and other issues of concern to mutual savings associations, all in accordance with the goals of Section 5(a) of the Home Owners' Loan Act, 12 U.S.C. 1464.

Dated: November 7, 2018.
Joseph M. Otting,
Comptroller of the Currency.

[FR Doc. 2018-24723 Filed 11-13-18; 8:45 am]

BILLING CODE 4810-33-P